FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

ADN Logistics Group, LLC (OFF), 12030 SW 129th Court, Suite 103, Miami, FL 33186, Officer: Lourdes P. Goderich, Member, Application Type: New OFF License

ATI Global Cargo, Inc. (OFF), 10795 NW 50th Street, Suite 205, Miami, FL 33178, Officer: Alina M. Herrera, President (QI), Application Type: New OFF License

Cirrus International (Private) Limited (NVO), 501, Progressive Square, 11-A, Block-6, P.E.C.H.S., Shahrah-E-Faisal, Karachi, Sindh, 75350, Pakistan, Officers: Umar F. Kazi, Chief Executive (QI), Ayaz Admani, Director, Application Type: New NVO License

CMK Logistics Corporation dba BK Logistics Co. (NVO & OFF), 19500 S. Rancho Way, Suite 103, Rancho Dominguez, CA 90220, Officer: Christine M. Kim, CEO (QI), Application Type: New NVO & OFF License

D M G Logistics, Inc. (NVO & OFF), 207 Meadow Road, Edison, NJ 08817, Officer: Frank S. Molfetta, President (QI), Application Type: QI Change

Final Mile Logistics, Inc. (NVO & OFF), 165 Charles W. Grant Parkway, Atlanta, GA 30354, Officers: Paul Gentzke, Vice President (QI), Joseph A. Czyzyk, Chairman of the Board, Application Type: New NVO & OFF License

Flo Logistics LLC (NVO), 2600 South Shore Blvd., Suite 300, League City, TX 77573, Officer: Bradley Louden, Managing Member (QI), Application Type: New NVO License

FM Shipping LLC (NVO & OFF), 14482 Beach Blvd., Suite E, Westminster, CA 92683, Officer: Ryan A. Mashaqi, CEO (QI), Application Type: Transfer to FM Cargo Shipping Inc

Global Concepts Group Inc. dba Global Concepts Shipping (NVO & OFF), 9083 S. La Cienega Blvd., Inglewood, CA 90301, Officers: Ali Tafaghodi Timaji, President (QI), Brenda L. Manning, Secretary, Application Type: New NVO & OFF License

I.T.N. Consolidators, Inc. dba International Transportation Network (NVO), 3401-C NW 72nd Avenue, Miami, FL 33122, Officers: Juan A. Garcia, Vice President (QI), Daniel L. Grimes, Chief Operating Officer (QI), Application Type: Add Trade Name ITN Worldwide

Industrial Connections, Inc. (NVO), 300 Park Blvd., Suite 165, Itasca, IL 60143, Officer: Steven J. Meng, President (QI), Application Type: Add Trade Name IC-Shipping

Intorvolca Logistic, LLC (NVO), 11890 SW 8th Street, Penthouse 3 A-B, Miami, FL 33184, Officer: Javier A. Volcanes, Manager/Member (QI), Application Type: New NVO License

Leon Export & Import Services Inc. (NVO), 9284 SW 21 Terrace, Miami, FL 33165, Officers: Celia Leon, President (QI), Jose Estrada, Vice President, Application Type: New NVO License

LF Freight (West) LLC (NVO & OFF), 10350 Heritage Park Drive, Suite 200, Santa Fe Springs, CA 90670, Officers: Scott R. Ornstein, Vice President (QI), Paul McGuire, President, Application Type: New NVO & OFF License

Madi Auto Sales and Shipping, Inc (NVO & OFF), 3691 State Road 580, Suite A, Oldsmar, FL 34677, Officers: Iman Safa, Secretary (QI), Mohamad Madi, President, Application Type: New NVO & OFF License

Mid Atlantic Logistics Unlimited, Inc. (OFF), 4321 Donlyn Court, Columbus, OH 43232, Officers: Justin D. Carter, Assistant Secretary of the Board (QI), Conta Howard, President, Application Type: New OFF License

Miragrown Logistics Corporation dba Lucky Consol Inc. (NVO), 2370 West Carson Street, Suite 130, Torrance, CA 90501, Officers: Reyna Ruiz, Secretary (QI), Zhimin Wei, President, Application Type: QI Change

North American Logistics, Inc. (NVO), 710 Fox Glen, Barrington, IL 60010, Officers: Shawn T. Cummings, President (QI), Timothy J. Cummings, Vice President, Application Type: QI Change

Nostrum Freight Limited Liability Company (NVO), 2016 Westfield Avenue, Scotch Plains, NJ 07076, Officer: Maria D. Rodriguez Del Real, Member (QI), Application Type: New NVO License

NRL Logistics for International Shipping & Transport Services, Egytian joint-stock company (NVO), 15 Mahmoud El Ashry, Helopolis, Cairo, Officers: Hany Boshra, Chairman (QI), Remonda Melik, CEO, Application Type: New NVO License

Oceanic Container Line Inc. (NVO & OFF), 2350 Hylan Blvd., Staten Island, NY 10306, Officers: Kenny W. Whitman, President (QI), Joseph D'Agastino, Secretary, Application Type: Add Trade Name Share Logistics USA

Pointer Int'l Forwarders, Inc. (OFF), 6386 NW 97th Avenue, Doral, FL 33178, Officers: Maria A. Ramos, Member Manager (QI), Elio Ramos, Member, Application Type: Business Structure Change to Pointer Int'l Forwarders, LLC

Puerto Pireo, Corp (NVO & OFF), 6941 Carlye Avenue, Suite 301, Miami Beach, FL 33141, Officers: Federico M. Rocha, Vice President (QI), Nicolas Stamati, President, Application Type: New NVO & OFF License

Ranahan Solutions, L.L.C. (NVO & OFF), 1020 Fennell, Houston, TX 77012, Officers: Ryan C. St. Clair, Chief Marketing Officer (QI), George J. Schutte, CEO, Application Type: New NVO & OFF License

Royal Global Express (OFF), 1901 Raymer Avenue, Fullerton, CA 92833, Officers: James E. Barkley, Vice President (QI), Shawn K. Duke, President, Application Type: Name Change to Royal Global Express Inc.

Savant Customs Brokers & Freight Forwarders, Inc. (NVO & OFF), 11 Broadway, Suite 1063, New York, NY 10004, Officers: Leonard Satz, President (QI), Katie M. Chen, Secretary, Application Type: New NVO & OFF License

Sigma Trade Logistics Corp (NVO), 5065 NW 74th Avenue, Suite 10, Miami, FL 33166, Officers: Joseph R. Caceres, President (QI), Ana M. Onate, Vice President, Application Type: New NVO License

Si-Log USA, LLC (NVO), 46 West 55th Street, 5th Floor, New York, NY 10019, Officer: Francesco Santori, Member/Manager (QI), Application Type: New NVO License

Starck Industries, Inc. (OFF), 12 Starck Drive, Burgettstown, PA 15021, Officers: Steven Starck, President (QI), Lindy Starck, Owner, Application Type: New OFF License

Transworld Logistics Group, Inc. (NVO & OFF), 242 Old New Brunswick Road, Suite 411, Piscataway, NJ 08854, Officers: Ziad Barghash, President (QI), Debra Brancato, Secretary, Application Type: QI Change/Add Trade Name TLG, Inc./Add NVO Service

Universal Relocations Inc. (NVO & OFF), 5895 Shiloh Road, Suite 108, Alpharetta, GA 30005, Officers: Sai Baba V. Dattani, President (QI), Meenakumari S. Vijay Dattani, Secretary, Application Type: New NVO & OFF License

Uniway Freight Service, Inc. (NVO), 2347 65th Street, Brooklyn, NY 11204, Officers: Ying Fang (Yuki) Yu, Director (QI), Peng D. Cen, Director, Application Type: New NVO License

Worldwide Export International, Corp. (NVO), 450 W. 28th St., Bay 2, Hialeah, FL 33010, Officers: Maria I. Garrido, President (QI), Isbel Montano, Vice President, Application Type: New NVO License

Zavcor Trucking Limited (NVO), 3650 Eagle Street, Stevensville, Canada, Officers: Frederick L. Cratt, Vice President (QI), Kirk J. Zavitz, Director, Application Type: New NVO License

ZM Logistics LLC (NVO & OFF), 8065 NW 68th Street, Miami, FL 33166, Officers: Vicente Memoli, Managing Member (QI), Gianni Zampini, Manager, Application Type: New NVO & OFF License

By the Commission.
Dated: May 30, 2014.
Karen V. Gregory,
Secretary.

[FR Doc. 2014-13276 Filed 6-6-14; 8:45 am]

BILLING CODE 6730-01-P